COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete a product and services from the Procurement List that was previously furnished by nonprofit agencies employing persons who are blind or have other severe disabilities.

DATES: Comments must be received on or before: December 30, 2018.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product and services are proposed for deletion from the Procurement List:

Product

NSN(s)—Product Name(s): 7520-00-286-1724—File, Sorter, Letter, 1-31, Blue

Mandatory Source of Supply: Exceptional Children's Foundation, Culver City, CA

Contracting Activity: GSA/FAS ADMIN SVCS ACQUISITION BR(2, New York, NY

Services

Service Type: Supply Room/Motor Vehicle Service

Mandatory for: Federal Aviation Administration: Great Lakes Region, Des Plaines, IL

Mandatory Source of Supply: Jewish Vocational Service and Employment Center, Chicago, IL

Contracting Activity: DEPARTMENT OF TRANSPORTATION

Service Type: Janitorial Service

Mandatory for: USDA Natural Resources Conservation Service Shiprock Field Office, Old Post Office Route 491 Shiprock, NM

Mandatory Source of Supply: Presbyterian Medical Services, Santa Fe, NM

Contracting Activity: NATURAL RESOURCES CONSERVATION SERVICE, AZ STATE OFFICE (NRCS)

Service Types: Trash Pick-up Service Cleaning Service

Mandatory for: Crane Division, Naval Surface Warfare Center, Crane, IN

Mandatory Source of Supply: Orange County Rehabilitative and Developmental Services, Inc., Paoli, IN

Contracting Activity: DEPT OF THE NAVY, U S FLEET FORCES COMMAND

Michael R. Jurkowski,
Business Management Specialist, Business Operations.

[FR Doc. 2018-26065 Filed 11-29-18; 8:45 am]

BILLING CODE 6353-01-P